DEPARTMENT OF THE INTERIOR

Bureau of Land Management

[WY-06-00-2821-JL]

Emergency Motor Vehicle Closure

AGENCY: Bureau of Land Management, Interior.

ACTION: A temporary closure to motor vehicle use on public lands within and adjacent to the area of the Ormsby Fire (T802) administered by the Bureau of Land Management, Casper Field Office.

SUMMARY: On August 10 and 11, 2000, the Ormsby Fire burned approximately 11,050 of public, state and, private land in Converse County, Wyoming. About 4,970 acres of public land administered by the Bureau of Land Management were burned in T. 36 N., R. 76 W., secs. 4, 5, 6, 7, 8, 9 and 10; T. 36 N., R. 77 W., secs. 1, 11 and 12; T. 37 N., R. 76 W., secs. 9, 19, 20, 30 and 31; and, T. 37 N., R. 77 W., secs. 24, 25 and 26, all in the 6th Principal Meridian.

Because of the damage caused by the fire and fire-fighting activities, this closure is necessary to prevent erosion, to prevent the creation of new motor vehicle routes and to enhance fire rehabilitation efforts within and adjacent to the burned area. A map of the Ormsby Fire area is available at the Casper Field Office.

Prohibited Act: Pursuant to 43 CFR 8364.1, motorized vehicle use is prohibited on public land administered by the Bureau of Land Management within and near the boundary of the Ormsby Fire. This includes all fire lines created by bulldozers and graders. Public access routes to and through the area will be signed as closed to motor vehicles.

Penalties: The authority for this closure is found under section 303(a) of the Federal Land Policy and Management Act of 1976 (43 U.S.C. 1733(a)), 43 CFR 8360.0-7 and 43 CFR 8364.1. Any person who knowingly and willfully violates this closure and is convicted may be fined no more than $1,000 or imprisoned no more than 12 months, or both.

Exceptions: This closure applies to all motorized vehicles excluding (1) any emergency or law enforcement vehicle while being used for emergency purposes; (2) any vehicle used for planning and implementing the rehabilitation plan for the fire area; and, (3) any vehicle whose use is expressly authorized in writing by the Field Manager, Casper Field Office.

EFFECTIVE DATE: This emergency closure is effective September 1, 2000, and will continue through November 30, 2000.

FOR FURTHER INFORMATION, CONTACT: James K. Murkin, Field Manager, Casper Field Office, Bureau of Land Management, 2987 Prospector Drive, Casper, WY 82604-2968. Telephone: 307-261-7600.

Dated: August 22, 2000.
James K. Murkin,
Field Manager.

[FR Doc. 00-22450 Filed 8-31-00; 8:45 am]

BILLING CODE 4310-22-P